FEDERAL COMMUNICATIONS COMMISSION

47 CFR Parts 1, 43, and 63

[IB Docket No. 04-112; FCC 13-6]

Reporting Requirements for U.S. Providers of International Telecommunications Services

AGENCY: Federal Communications Commission.

ACTION: Final rule.

SUMMARY: In this document, the Federal Communications Commission (Commission) eliminates unnecessary information, streamlines the filing of annual international traffic and revenue and circuit status reports, and modernizes the types of information it collects. The Commission found that the burdens of filing this information outweigh any benefit from the information. To simplify the collection of data on international telecommunications services, the Commission consolidated the traffic and revenue and circuit status reports into one rule and mandated a consolidated Filing Manual that will ensure that future changes to the reports will be coordinated. These actions are part of the Commission's review of its reporting requirements and are intended to remove unnecessary information collections and tailor its information collections to the current state of the international telecommunications market.

DATES: Effective April 11, 2013, except for §§ 1.767(l)(2), 43.61, 43.62, 43.82, 63.10(c)(2) and (4), 63.21(d) and 63.22(e), which contain information collection requirements that have not been approved by the Office of Management and Budget (OMB). The Commission will publish a document in the Federal Register announcing the effective date of those rule changes.

FOR FURTHER INFORMATION CONTACT: John Copes or David Krech, Policy Division, International Bureau, FCC, (202) 418-1460 or via the Internet at John.Copes@fcc.gov and David.Krech@fcc.gov.

SUPPLEMENTARY INFORMATION: This is a summary of the Commission's Second Report and Order, IB Docket No. 04-112, FCC 13-6, adopted January 9, 2013, and released January 15, 2013. The full text of the Second Report and Order is available for inspection and copying during normal business hours in the FCC Reference Center, 445 12th Street, SW., Washington, DC 20554. The document also is available for download over the Internet at http://transition.fcc.gov/Daily_Releases/Daily_Business/2013/db0125/FCC-13-6A1.pdf. The complete text also may be purchased from the Commission's copy contractor, Best Copy and Printing, Inc. (BCPI), located in Room CY-B402, 445 12th Street SW., Washington, DC 20554. Customers may contact BCPI at its Web site: http://www.bcpiweb.com or call 1-800-378-3160.

Summary of Second Report and Order

1. In the Second Report and Order, the Federal Communications Commission (Commission), continues its comprehensive review of its international reporting requirements for entities providing international telecommunications services. The Commission's international reporting requirements consist of the annual international traffic and revenue report (currently found in 47 CFR 43.61) and the annual international circuit status report (currently found in 47 CFR 43.82). The Commission adopted a number of changes that affect both such reports. The Commission also adopted a number of specific changes to the traffic and revenue report and changes to the circuit status report.

Changes Affecting Both Reports

2. The Commission decided to consolidate both of the international reports into 47 CFR 43.62. The Commission also decided to consolidate the current separate filing manuals for each report into one consolidated Filing Manual. The Commission determined that having one consolidated rule and one consolidated filing manual for both reports would make it easier for entities required to file on or both of the reports to file their data. To this end, the Commission directed the International Bureau to issue and maintain a consolidated Filing Manual that would provide instructions to filing entities for preparing and submitting both reports. The Commission determined that having a single Filing Manual, with a single set of definitions would make it easier for the Bureau to keep the instructions for both reports consistent with each other. The Commission, however, did not adopt its proposal to consolidate the current separate filing dates for the two reports. Rather, it decided to retain the current separate filing dates.

3. The Commission decided to require each entity that files a traffic and revenue report or a circuit status report also to file each year a Registration Form that elicits basic information about the entity such as company name, address, contact information and a list of any authorizations under section 214 of the Communications Act that the entity may hold. Additionally, the Commission requires any entity that files a traffic and revenue report also to file a Services Checklist under which the entity would check a series of boxes to provide basic information about its operations during the previous year, such as whether the entity provided service in that year, and which would direct the entity as to which schedules it is required to file. The Commission determined that the Registration Form and Services Checklist would allow the Commission to determine which carriers are providing service and to keep its data base updated.

4. To simplify the filing of traffic and revenue and circuit status reports, the Commission will allow filing entities to employ statistical sampling and other estimation techniques where actual counts of data elements are not possible. Finally, the Commission streamlines the procedure for requesting confidential treatment of their traffic and revenue and circuit status reports under 47 CFR 0.459 by allowing them to check a box.

Changes Affecting the Traffic and Revenue Report

5. The Commission simplified the traffic and revenue report by eliminating several current requirements that filing entities must report. The traffic and revenue reports collect information on four classes of international telecommunications services: (1) International message telephone service (IMTS); (2) IMTS resale; (3) international private line service; and (4) international miscellaneous services. The Commission made changes to the reporting of each class of service.

6. IMTS. The Commission eliminated several requirements that will make it simpler for filling entities to prepare and submit the traffic and revenue report for IMTS. Additionally, the Commission modernized the IMTS information that filing entities must report to make such information more relevant to current conditions in the IMTS market. Finally, the Commission requires certain entities that provide an IMTS-like service, voice over internet protocol (VoIP), also to file the traffic and revenue report. First, the Commission eliminates the need for filing entities to report the number of IMTS messages they carry or regional totals for their IMTS traffic. The Commission also allows filing entities to include their country-beyond and country-direct traffic in their world total traffic, rather than report it for each route as they currently do. The Commission replaced the current detailed billing codes under which carriers now report their IMTS traffic and revenues with a set of simple filing schedules. Second, to modernize the information filing entities report, the Commission requires those entities to break down their world-total IMTS traffic and revenues by customer class and routing arrangements. That is, the Commission requires filing entities to break down their IMTS revenues into three customer classes: residential and mass market customers; business and government customers; and other carriers. The Commission requires filing entities to disaggregate their IMTS minutes and revenue payouts between traffic they terminate on foreign fixed landline networks and those terminated on foreign mobile networks. Finally, the Commission required providers of an IMTS-like service, called voice over internet protocol (VoIP) that is interconnected to the public switched telephone network, also to file the IMTS portion of the traffic and revenue report. The Commission noted that, while the providers of these services are not classified as common carriers, customers view the service as a substitute for IMTS. The Commission concluded that recent declines in IMTS traffic are attributable to customers' switching to interconnected VoIP and that, without information on such services, it would not have an adequate view of the international voice market.

7. IMTS Resale. The Commission a $5 million revenue threshold for the reporting of international resale IMTS traffic (the provision of IMTS by purchasing IMTS from another carrier and selling it to the reseller's customers). With respect to resale IMTS the threshold will eliminate the need for 1,000 small carriers to file a report.

8. International Private Line Service. The Commission eliminated the current requirement that filing entities disaggregate their private line services (the provision of channel of communications, usually on a monthly leased basis, into six categories based on speed, allowing them instead to report their private line traffic and services provided over resold private lines only on a world-total basis. The Commission also eliminated the requirement for facilities-based carriers to report those lines on a route-by-route basis, allowing them to report them only on a world-total basis.

9. International Data and Miscellaneous Services. The Commission adopted its proposal to allow carriers that provide certain classes of international data services to include those services in the category of international miscellaneous services, rather than with their private line services as they now do. These services, referred to as virtual private lines, consist of offering customers the use of a carrier's network for a stated period. The Commission concluded that these services closely resemble various new data services that carriers have recently introduced. The Commission also adopted its proposal to allow filing entities to report all their international miscellaneous services on a world-total basis, rather than route by route, as they now report such services. Finally, the Commission adopted a $ 5 million revenue threshold below which a provider of an international miscellaneous service need not report its traffic or revenues for that service.

Changes Affecting the Circuit Status Report

10. The Commission adopted a number of changes to simplify the circuit status report that common carriers, and some non-common carrier providers of international satellite transmission facilities, currently file each year. The circuit status report requires filing entities to provide information on the capacity and use of their international transmission circuits. The Commission simplified the circuit status report by eliminating the current requirement that carriers report their circuits on a route-by-route basis, allowing them to report them on a world-total basis, instead. The Commission also eliminated the requirement that carriers report the number of their idle circuits or the destination of the circuits. Rather, it will require filing entities to report only their total active 64 kilobit per second (KBpS) equivalent circuits. With respect to non-common carrier providers of international satellite networks, the Commission similarly will require such providers similarly to provide information only on their active 64 KBpS circuits. The Commission concluded that this would not be a burden on such entities, because they must file the same information when they pay their annual regulatory fees. With respect to submarine cable systems, the Commission will require both common carrier and non-common carriers providers of such circuits to report only the capacity of their cables. Such providers will no longer be required to report the number of 64 KBpS circuits on their facilities or the destination to which those circuits are sued. Rather, the Commission will require filing entities to report, as of December 31 of the previous year, the capacity of their cables in STM-1 (Synchronous Transport Module level 1) units, which is now the standard commercial unit for the sale or leasing of cable capacity. The Commission will also require filing entities to report their capacity in terms of the ownership interest (ownership, indefeasible right of use, or an inter-carrier lease). Additionally, the Commission will require filing entities to report the planned capacity of new cables in gigabit per second (GBpS) units.

Paperwork Reduction Act of 1995 Analysis

11. This Second Report and Order adopts new or revised information collection requirements, subject to the Paperwork Reduction Act of 1995 (PRA), Public Law 104-13. These information collection requirements will be submitted to the Office of Management and Budget (OMB) for review under Section 3507(d) of the PRA. The Commission will publish a separate notice in the Federal Register inviting comment on the new or revised information collection requirement(s) adopted in this document. The requirement(s) will not go into effect until OMB has approved it and the Commission has published a notice announcing the effective date of the information collection requirement(s). In addition, we note that pursuant to the Small Business Paperwork Relief Act of 2002, Public Law 107-198, see 44 U.S.C. 3506(c)(4), we previously sought specific comment on how the Commission might further reduce the information collection burden for small business concerns with fewer than 25 employees.

Final Regulatory Flexibility Analysis

12. As required by the Regulatory Flexibility Act, as amended (RFA),¹ the Federal Communications Commission (Commission) included an Initial Regulatory Flexibility Analysis (IRFA) concerning the possible significant economic impact on a substantial number of small entities of the policies and rules proposed in the Further Notice of Proposed Rulemaking (NPRM) in this proceeding.² The Commission sought written public comment on the proposals in the FNPRM, including comment on the IRFA. This Final Regulatory Flexibility Analysis (FRFA) addresses the policies and rules that the Commission adopted in the Second Report and Order in this proceeding. This Second Report and Order retains the annual Traffic and Revenue Report and the annual Circuit Status Report. The Second Report and Order adopts some measures, as described below, to simplify compliance with the reporting requirements but generally does not alter either report. The Commission considered a number of proposals to streamline the reports and to improve the information that carriers will provide in the Further Notice of Proposed Rulemaking portion of this proceeding. This FRFA conforms to the RFA.

¹ See 5 U.S.C. 603. The RFA, see 5 U.S.C. 601-612, has been amended by the Small Business Regulatory Enforcement Fairness Act of 1996 (SBREFA), Pub. L. 104-121, Title II, 110 Stat. 857 (1996).

² Reporting Requirements for U.S. Providers of International Telecommunications Services, Amendment of Part 43 of the Commission's Rules, IB Docket No. 04-112, Notice of Proposed Rulemaking, 19 FCC Rcd 6460 (2004). We note that we may not certify this proceeding under 5 U.S.C. 605, because our action will not have a significant economic effect on a substantial number of small entities (as discussed).

A. Need for, and Objectives of, the Second Report and Order

13. The Commission initiated this comprehensive review of the reporting requirements imposed on U.S. carriers providing international telecommunications services. The Commission believes that the decisions in the Second Report and Order will make it easier for carriers, both small and large, to provide the information required by the rules, while providing the Commission with information it needs but does not receive on an annual basis. In addition, section 11 of the Telecommunications Act of 1996 directs the Commission to undertake, in every even-numbered year beginning in 1998, a review of certain regulations issued under the Communications Act of 1934, as amended.³

³ Public Law 104-104, 110 Stat. 56 (1996).

14. The objective of the Second Report and Order in this proceeding is to improve the reporting requirements imposed on carriers providing international telecommunications services in the proposed § 43.62(a) and (b). Specifically, the Second Report and Order consolidates, simplifies, and revises the annual traffic and revenue reporting requirements and the circuit status reporting requirements. The rule also requires entities to file some additional information in the traffic and revenue report that they do not now file. Additionally, the rule relieves service providers with annual revenues less than $5 million from filing Traffic and Revenue Reports for IMTS resale and the provision of international miscellaneous services. Finally, the rule requires all providers of international telecommunications services to file an annual Services Report that updates their contact information and indicates whether or not they provided service during the preceding calendar year. The Second Report and Order also requires some additional entities that provide international telecommunications services to file the annual Traffic and Revenue Report and some additional entities that provide international facilities to file the annual Circuit Status Report.

15. Section 43.61 requires all U.S. carriers providing international telecommunications services to file an annual report of their traffic and revenues. Under the consolidated § 43.62(b), those same carriers and some additional entities that provide international telecommunications services will file similar traffic and revenue information. Section 43.82 requires all U.S. facilities-based carriers providing international telecommunications services to file an annual report on the status of their circuits. Under the new § 43.62(a), those same carriers and some other providers of international telecommunications facilities will file similar circuit status information. The information derived from the international Traffic and Revenue Report and Circuit Status Report is critical in understanding the international telecommunications market. These reports are the only source of information of this nature.

B. Summary of Significant Issues Raised by Public Comments in Response to the IRFA

16. No comments were received on the IRFA analysis.

C. Description and Estimate of the Number of Small Entities to Which the Rules Will Apply

17. The RFA directs agencies to provide a description of, and, where feasible, an estimate of the number of small entities that may be affected by the proposals, if adopted.⁴ The RFA generally defines the term “small entity” as having the same meaning as the terms “small business,” “small organization,” and “small governmental jurisdiction.” ⁵ In addition, the term “small business” has the same meaning as the term “small business concern” under the Small Business Act.⁶ A small business concern is one that: (1) Is independently owned and operated; (2) is not dominant in its field of operation; and (3) satisfies any additional criteria established by the Small Business Administration (SBA).⁷

⁴ 5 U.S.C. 603(b)(3).

⁵ 5 U.S.C. 601(6).

⁶ 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁷ 15 U.S.C. 632.

18. The policies adopted in the Second Report and Order apply to entities providing international common carrier services pursuant to section 214 of the Communications Act; entities providing international wireless common carrier services under section 309 of the Act; entities providing common carrier satellite services under section 309 of the Act; and entities licensed to construct and operate submarine cables under the Cable Landing License Act. The Commission has not developed a small business size standard directed specifically toward these entities. As described below, such entities fit within larger categories for which the SBA has developed size standards.

1. Traffic and Revenue Report

19. The policies adopted in the Second Report and Order apply only to entities providing international common carrier services pursuant to section 214 of the Communications Act; entities that operate a telecommunications “spot market” that themselves carry international traffic; entities providing domestic or international wireless common carrier services under section 309 of the Act; entities providing common carrier satellite facilities under section 309 of the Act; entities licensed to construct and operate submarine cables under the Cable Landing License Act on a common carrier basis; and entities that provide international terrestrial telecommunications facilities on a common carrier basis (including incumbent local exchange carriers that offer such facilities). At present, carriers that provide international telecommunications services are required to file the annual traffic and revenue report. The requires entities providing VoIP service interconnected with the public switched telephone network also to file the Traffic and Revenue Report. The Second Report and Order also requires all filing entities file a Services Report with information about the filing entity—such as address, phone number, email address, and the international section 214 authorizations held by the carrier. Further, the Second Report and Order adopts a number of changes that would simplify the Traffic and Revenue Report, as well as requiring some new information.

20. The entities that the Second Report and Order proposes to require to file the Traffic and Revenue Report are a mixture of both large and small entities. The Commission has not developed a small business size standard directed specifically toward these entities. However, as described below, these entities fit into larger categories for which the SBA has developed size standards that provide these facilities or services.

21. Facilities-based Carriers. Facilities-based providers of international telecommunications services would fall into the larger category of interexchange carriers. Neither the Commission nor the SBA has developed a small business size standard specifically for providers of interexchange services. The appropriate size standard under SBA rules is for the category Wired Telecommunications Carriers. Under that size standard, such a business is small if it has 1,500 or fewer employees.⁸ Census Bureau data for 2007, which now supersede data from the 2002 Census, show that there were 3,188 firms in this category that operated for the entire year. Of this total, 3,144 had employment of 999 or fewer, and 44 firms had had employment of 1,000 employees or more. Thus under this category and the associated small business size standard, the majority of these Interexchange carriers can be considered small entities.⁹ According to Commission data, 359 companies reported that their primary telecommunications service activity was the provision of interexchange services.¹⁰ Of these 359 companies, an estimated 317 have 1,500 or fewer employees and 42 have more than 1,500 employees.¹¹ Consequently, the Commission estimates that the majority of interexchange service providers are small entities that may be affected by rules adopted in the Second Report and Order.

⁸ 13 CFR 121.201, NAICS code 517110.

⁹ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517110 in the left column for “Wired telecommunications carriers”) (last visited March 2, 2011).

¹⁰ See Trends in Telephone Service at Table 5.3.

¹¹ See id.

22. In the 2010 annual traffic and revenue report, 31 facilities-based and facilities-resale carriers reported approximately $4.0 billion in revenues from international message telephone service (IMTS). Of these, three reported IMTS revenues of more than $1 billion, six reported IMTS revenues of more than $100 million, nine reported IMTS revenues of more than $50 million, 19 reported IMTS revenues of more than $10 million, 23 reported IMTS revenues of more than $5 million, and 26 reported IMTS revenues of more than $1 million. Based solely on their IMTS revenues the majority of these carriers would be considered non-small entities under the SBA definition.¹²

¹² See 13 CFR 121.201, NAICS Code at Subsector 517—Telecommunications.

23. The 2010 traffic and revenue report also shows that 46 facilities-based and facilities-resale carriers (including 13 who also reported IMTS revenues) reported $515 million for international private line services; of which one reported private line revenues of more than $50 million, 11 reported private line revenues of more than $10 million, 31 reported revenues of more than $1 million, 33 reported private line revenues of more than $500,000; 39 reported revenues of more than $100,000, while one reported revenues of less than $10,000.

24. The 2010 traffic and revenue report also shows that eight carriers (including one that reported both IMTS and private line revenues, one that reported IMTS revenues and five that reported private line revenues) reported $19 million for international miscellaneous services, of which two reported miscellaneous services revenues of more than $1 million, three reported revenues of more than $500,000, four reported revenues of more than $200,000, six reported revenues of more than $50,000, while one reported revenues of less than $20,000. Based on its miscellaneous services revenue, this one carrier with revenues of less than $20,000 would be considered a small business under the SBA definition. Based on their private line revenues, most of these entities would be considered non-small entities under the SBA definition.

25. IMTS Resale Providers. Providers of IMTS resale services are common carriers that purchase IMTS from other carriers and resell it to their own customers. The SBA has developed a small business size standard for the category of Telecommunications Resellers. Under that size standard, such a business is small if it has 1,500 or fewer employees.¹³ Census data for 2007 show that 1,523 firms provided resale services during that year. Of that number, 1,522 operated with fewer than 1000 employees and one operated with more than 1,000.¹⁴ Thus under this category and the associated small business size standard, the majority of these resellers can be considered small entities. In the 2010 traffic and revenue report, 1,211 carriers reported that they provided IMTS on a pure resale basis.¹⁵ Based on their IMTS resale revenues, IMTS resale service is primarily provided by carriers that would be considered small businesses under the SBA definition. For example, of the 1,211 IMTS resale carriers, 656 carriers reported revenues of less than $10,000; 1,014 had revenues less than $500,000; and 1,053 had revenues less than $1 million.¹⁶ Consequently, the Commission estimates that the majority of IMTS resellers are small entities that may be affected by our action.

¹³ 13 CFR 121.201, NAICS code 517911.

¹⁴ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517911 in the left column for “Telecommunications Resellers”) (last visited March 2, 2011).

¹⁵ See FCC, International Bureau, Strategic Analysis and Negotiations Division, 2010 International Telecommunications Data at page 1-2, Statistical Findings, and Table D at page 22 (March 2012), available at http://www.fcc.gov/ib/sand/mniab/traffic.

¹⁶ Id.

26. Wireless Carriers and Service Providers. Included among the providers of IMTS resale are a number of wireless carriers that also provide wireless telephony services domestically. The Commission classifies these entities as providers of Commercial Mobile Radio Services (CMRS). At present, most, if not all, providers of CMRS that offer IMTS provide such service by purchasing IMTS from other carriers to resell it to their customers. The Commission has not developed a size standard specifically for CMRS providers that offer resale IMTS. Such entities would fall within the larger category of wireless carriers and service providers. Below, for those services subject to auctions, the Commission notes that, as a general matter, the number of winning bidders that qualify as small businesses at the close of an auction does not necessarily represent the number of small businesses currently in service. Also, the Commission does not generally track subsequent business size unless, in the context of assignments or transfers, unjust enrichment issues are implicated.

27. Wireless Telecommunications Carriers (except Satellite). Since 2007, the Census Bureau has placed wireless firms within this new, broad, economic census category.¹⁷ Prior to that time, such firms were within the now-superseded categories of Paging and Cellular and Other Wireless Telecommunications.¹⁸ Under the present and prior categories, the SBA has deemed a wireless business to be small if it has 1,500 or fewer employees.¹⁹ For the category of Wireless Telecommunications Carriers (except Satellite), Census data for 2007, which supersede data contained in the 2002 Census, show that there were 1,383 firms that operated that year.²⁰ Of those 1,383, 1,368 had fewer than 100 employees, and 15 firms had more than 100 employees. Thus under this category and the associated small business size standard, the majority of firms can be considered small. Similarly, according to Commission data, 413 carriers reported that they were engaged in the provision of wireless telephony, including cellular service, Personal Communications Service, and Specialized Mobile Radio Telephony services.²¹ Of these, an estimated 261 have 1,500 or fewer employees and 152 have more than 1,500 employees.²² Consequently, the Commission estimates that approximately half or more of these firms can be considered small. Thus, using available data, we estimate that the majority of wireless firms can be considered small.

¹⁷ U.S. Census Bureau, 2007 NAICS Definitions: Wireless Telecommunications Categories (except Satellite), http://www.census.gov/naics/2007/def/ND517210.HTM (last visited March 2, 2011).

¹⁸ U.S. Census Bureau, 2002 NAICS Definitions: Paging, http://www.census.gov/epcd/naics02/def/NDEF517.HTM (last visited March 2, 2011); U.S. Census Bureau, 2002 NAICS Definitions: Other Wireless Telecommunications, http://www.census.gov/epcd/naics02/def/NDEF517.HTM (last visited March 2, 2011).

¹⁹ 13 CFR 121.201, NAICS code 517210 (2007 NAICS). The now-superseded, pre-2007 CFR citations were 13 CFR 121.201, NAICS codes 517211 and 517212 (referring to the 2002 NAICS).

²⁰ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517210 in the left column for “Wireless Telecommunications Carriers (except Satellite)”) (last visited March 2, 2011).

²¹ See Trends in Telephone Service at Table 5.3.

²² See id.

28. Wireless Communications Services. This service can be used for fixed, mobile, radiolocation, and digital audio broadcasting satellite uses. The Commission defined “small business” for the Wireless Communications Services (WCS) auction as an entity with average gross revenues of $40 million for each of the three preceding years, and a “very small business” as an entity with average gross revenues of $15 million for each of the three preceding years.²³ The SBA has approved these definitions.²⁴ The Commission auctioned geographic area licenses in the WCS service. In the auction, which commenced on April 15, 1997 and closed on April 25, 1997, seven bidders won 31 licenses that qualified as very small business entities, and one bidder won one license that qualified as a small business entity.

²³ Amendment of the Commission's Rules to Establish Part 27, the Wireless Communications Service, GN Docket No. 96-228, Report and Order, 12 FCC Rcd 10785, 10879, para. 194 (1997).

²⁴ See Letter from Aida Alvarez, Administrator, SBA, to Amy Zoslov, Chief, Auctions and Industry Analysis Division, Wireless Telecommunications Bureau, FCC (filed Dec. 2, 1998) (Alvarez Letter 1998).

29. Providers of Interconnected VoIP services. In addition to the carriers that now file the annual traffic and revenue report, the Second Report and Order requires entities providing international calling service via Voice over Internet Protocol (VoIP) connected to the public switched telephone network (PSTN) to file data on their international voice traffic. The entities that provide such services are a mix of large and small entities. We do not have information on the size of such VoIP providers. The 2007 Economic Census includes VoIP providers in a larger class called “Internet Service Providers” (ISPs), and classes such ISPs in two categories, depending upon whether the service is provided over the provider's own facilities (e.g., cable or DSL ISPs), or over client-supplied telecommunications connections (e.g., dial-up ISPs). The former are within the category of Wired Telecommunications Carriers.²⁵ As a result, for the purpose of this IRFA we shall consider all such entities to be small entities within the meaning of the Small Business Act., which has an SBA small business size standard of 1,500 or fewer employees.²⁶ The latter are within the category of All Other Telecommunications,²⁷ which has a size standard of annual receipts of $25 million or less.²⁸ The most current Census Bureau data for all such firms, however, are the 2002 data for the previous census category called Internet Service Providers.²⁹ That category had a small business size standard of $21 million or less in annual receipts, which was revised in late 2005 to $23 million. The 2002 data show that there were 2,529 such firms that operated for the entire year.³⁰ Of those, 2,437 firms had annual receipts of under $10 million, and an additional 47 firms had receipts of between $10 million and $24,999,999.³¹ Consequently, we estimate that the majority of VoIP providers are small entities.

²⁵ U.S. Census Bureau, 2007 NAICS Definitions: Wired Telecommunications Carriers, http://www.census.gov/naics/2007/def/ND517110.HTM (last visited March 2, 2011).

²⁶ 13 CFR 121.201, NAICS code 517110 (updated for inflation in 2008).

²⁷ U.S. Census Bureau, 2007 NAICS Definitions: All Other Telecommunications, http://www.census.gov/naics/2007/def/ND517919.HTM (last visited March 2, 2011).

²⁸ 13 CFR 121.201, NAICS code 517919 (updated for inflation in 2008).

²⁹ U.S. Census Bureau, 2002 NAICS Definitions: Internet Service Providers, Web Search Portals, and Data Processing Services, http://www.census.gov/epcd/naics02/def/NDEF518.HTM (last visited March 2, 2011).

³⁰ U.S. Census Bureau, 2002 Economic Census, Subject Series: Information, “Establishment and Firm Size (Including Legal Form of Organization),” at Table 4, NAICS code 518111 (issued Nov. 2005).

³¹ An additional 45 firms had receipts of $25 million or more.

30. Spot Market operators. A “spot market” is a market where IMTS providers can buy or sell call completion services for calls, including IMTS calls. A customer of the spot market enters into a contract with the spot market owner to buy or sell call completion services by interconnecting at a spot market point of presence. The spot market owner acts as broker by facilitating the exchange of calls between spot market customers, who may not know each other's identity. The Commission has not developed a small business size standard specifically for operators of spot markets. As a result, for purposes of this IRFA, we shall consider all such entities to be small businesses.

2. Circuit Status Report

31. The actions we take in the Second Report and Order apply only to entities that have international bearer circuits. The Second Report and Order makes changes to the information that filing entities must provide about international common carrier circuits.

32. Providers of International Telecommunications Transmission Facilities. According to the 2010 Circuit Status Report, 70 U.S. international facility-based carriers filed information pursuant to § 43.82.³² Some of these providers would fall within the category of Inter-exchange Carriers, some would fall within the category of Wired Telecommunications Carriers, while others may not. The Commission has not developed a small business size standard specifically for providers of interexchange services. The appropriate size standard under SBA rules is for the category Wired Telecommunications Carriers. Under that size standard, such a business is small if it has 1,500 or fewer employees.³³ The circuit-status report does not include employee or revenue statistics, so we are unable to determine how many carriers could be considered small entities under the SBA standard. Although it is quite possible that a carrier could report a small amount of capacity and have significant revenues, we will consider those 75 carriers to be small entities at this time. In addition, of the 79 carriers that filed an annual circuit-status report for 2009, there were at least four carriers that reported no circuits owned or in use at the end of 2009.³⁴

³² See International Bureau Releases 2009 Year-End Circuit Status Report for U.S. Facilities-Based International Carriers; Data Reflects Continued Growth of Total Capacity Used (rel. March 30, 2012). The report is available on the FCC Web site at http://www.fcc.gov/ib/pd/pf/csmanual.htm.

³³ 13 CFR 121.201, NAICS code 517110.

³⁴ Id.

33. Satellite Telecommunications Providers. Other providers of international transmission facilities are those that operate international common carrier and non-common carrier satellite systems. Such systems provide circuits to providers of international telecommunication services or provide circuits directly to end users. The Second Report and Order requires operators of international satellite services to report their aggregate world-wide active circuits in the Circuit Status Report. The Commission has not determined a size standard specifically for operators of international satellite systems that offer circuits directly to end users. However, two economic census categories address the satellite industry. Under SBA rules, the first category has a small business size standard of $15 million or less in average annual receipts.³⁵ The second category has a size standard of $25 million or less in annual receipts.³⁶

³⁵ 13 CFR 121.201, NAICS code 517410.

³⁶ 13 CFR 121.201, NAICS code 517919.

34. The category of Satellite Telecommunications “comprises establishments primarily engaged in providing telecommunications services to other establishments in the telecommunications and broadcasting industries by forwarding and receiving communications signals via a system of satellites or reselling satellite telecommunications.” ³⁷ Census Bureau data for 2007 show that 512 Satellite Telecommunications firms that operated for that entire year.³⁸ Of this total, 464 firms had annual receipts of under $10 million, and 18 firms had receipts of $10 million to $24,999,999.³⁹ Consequently, the Commission estimates that the majority of Satellite Telecommunications firms are small entities that might be affected by our action.

³⁷ U.S. Census Bureau, 2007 NAICS Definitions, Satellite elecommunications, http://www.census.gov/naics/2007/def/ND517410.HTM (last visited March 2, 2011).

³⁸ U.S. Census Bureau, American FactFinder, 2007 Economic Census, http://factfinder.census.gov, (find “Economic Census” and choose “get data.” Then, under “Economic Census data sets by sector * * *,” choose “Information.” Under “Subject Series,” choose “EC0751SSSZ4: Receipts Size of Firms for the US: 2007.” Click “Next” and find data related to NAICS code 517210 in the left column for “Satellite Telecommunications”) (last visited March 2, 2011).

³⁹ Id.

35. The second category, i.e., All Other Telecommunications, comprises “establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing Internet services or voice over Internet protocol (VoIP) services via client-supplied telecommunications connections are also included in this industry.” ⁴⁰ For this category, Census Bureau data for 2007 show that there were a total of 2,383 firms that operated for the entire year.⁴¹ Of this total, 2,347 firms had annual receipts of under $25 million and 12 firms had annual receipts of $25 million to $49, 999,999.⁴² Consequently, the Commission estimates that the majority of All Other Telecommunications firms are small entities that might be affected by our action.

⁴⁰ U.S. Census Bureau, 2007 NAICS Definitions, All Other Telecommunications, http://www.census.gov/naics/2007/def/ND517919.HTM (last visited March 2, 2011).

⁴¹ U.S. Census Bureau, American FactFinder, 2007 Economic Census, http://factfinder.census.gov, (find “Economic Census” and choose “get data.” Then, under “Economic Census data sets by sector * * *,” choose “Information.” Under “Subject Series,” choose “EC0751SSSZ4: Receipts Size of Firms for the US: 2007.” Click “Next” and find data related to NAICS code 517919 in the left column for “All Other Telecommunications”) (last visited March 2, 2011).

⁴² Id.

36. Operators of Non-Common carrier Undersea Cable Systems. The Second Report and Order requires all submarine cable licensees to file data on their circuits on submarine cable facilities. Neither the Commission nor the SBA has developed a size standard specifically for operators of non-common carrier undersea cables. Such entities would fall within the large category of Wired Telecommunications Carriers. The size standard under SBA rules for that category is that such a business is small if it has 1,500 or fewer employees.⁴³ Census Bureau data for 2007, which now supersede data from the 2002 Census, show that there were 3,188 firms in this category that operated for the entire year. Of this total, 3,144 had employment of 999 employees or fewer, and 44 firms had had employment of 1,000 employees or more. Thus under this category and the associated small business size standard, the majority of these carriers can be considered small entities.⁴⁴ We do not have data on the number of employees or revenues of operators of non-common carrier undersea cables. Because providers of non-common carrier undersea cables do not now file an annual circuit-status report, we do not know how many such entities provide circuits directly to end users. We do know that a number of such entities pay regulatory fees on such circuits, but the names of such entities are confidential. Because we do not have information on the number of employees or their annual revenues, we shall consider all such providers to be small entities for purposes of this IRFA.

⁴³ 13 CFR 121.201, NAICS code 517110.

⁴⁴ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517110 in the left column for “Wired telecommunications carriers”) (last visited March 2, 2011).

37. Incumbent Local Exchange Carriers. Because some of the international terrestrial facilities that are used to provide international telecommunications services may be owned by incumbent local exchange carriers, we have included small incumbent local exchange carriers in this present RFA analysis, to the extent that such local exchange carriers may operate such international facilities. (Local exchange carriers along the U.S.-border with Mexico or Canada may have local facilities that cross the border.) Neither the Commission nor the SBA has developed a small business size standard specifically for incumbent local exchange carriers. The appropriate size standard under SBA rules is for the category Wired Telecommunications Carriers. Under that size standard, such a business is small if it has 1,500 or fewer employees.⁴⁵ Census Bureau data for 2007, which now supersede data from the 2002 Census, show that there were 3,188 firms in this category that operated for the entire year. Of this total, 3,144 had employment of 999 or fewer and 44 firms had had employment of 1000 or more. According to Commission data, 1,307 carriers reported that they were incumbent local exchange service providers.⁴⁶ Of these 1,307 carriers, an estimated 1,006 have 1,500 or fewer employees and 301 have more than 1,500 employees.⁴⁷ As noted above, a “small business” under the RFA is one that, inter alia, meets the pertinent small business size standard (e.g., a telephone communications business having 1,500 or fewer employees), and “is not dominant in its field of operation.” ⁴⁸ The SBA's Office of Advocacy contends that, for RFA purposes, small incumbent local exchange carriers are not dominant in their field of operation because any such dominance is not “national” in scope.⁴⁹ Consequently, the Commission estimates that most providers of local exchange service are small entities that may be affected by the rules and policies we adopt in the Second Report and Order. We have therefore included small incumbent local exchange carriers in this RFA analysis, although we emphasize that this RFA action has no effect on Commission analysis and determinations in other, non-RFA contexts. Thus under this category and the associated small business size standard, the majority of these incumbent local exchange service providers can be considered small providers.⁵⁰

⁴⁵ 13 CFR 121.201, NAICS code 517110.

⁴⁶ See Trends in Telephone Service, Federal Communications Commission, Wireline Competition Bureau, Industry Analysis and Technology Division at Table 5.3 (Sept. 2010) (Trends in Telephone Service).

⁴⁷ See id.

⁴⁸ 15 U.S.C. 632.

⁴⁹ Letter from Jere W. Glover, Chief Counsel for Advocacy, SBA, to William E. Kennard, Chairman, FCC (May 27, 1999). The Small Business Act contains a definition of “small-business concern,” which the RFA incorporates into its own definition of “small business.” See 15 U.S.C. 632(a) (Small Business Act); 5 U.S.C. 601(3) (RFA). SBA regulations interpret “small business concern” to include the concept of dominance on a national basis. 13 CFR 121.102(b).

⁵⁰ U.S. Census Bureau, American FactFinder, 2007 Economic Census, http://factfinder.census.gov, (find “Economic Census” and choose “get data.” Then, under “Economic Census data sets by sector * * *,” choose “Information.” Under “Subject Series,” choose “EC0751SSSZ5: Employment Size of Firms for the US: 2007.” Click “Next” and find data related to NAICS code 517110 in the left column for “Wired telecommunications carriers”) (last visited March 2, 2011).

D. Description of Projected Reporting, Recordkeeping, and Other Compliance Requirements

38. The Second Report and Order retains and revises the annual Traffic and Revenue Report and Circuit Status Report, and add the Service Report, because the collection and public reporting of this information continues to be necessary in the public interest. Because carriers currently are required to file the section 43.61 annual traffic and revenue report and the § 43.82 annual circuit-status report, the decision to retain those reports will not impose any additional significant economic burden on small carriers. The Service Report is a simple form whose compliance burden is de minimis. The decision to retain the reporting of IMTS and international private lines on a route-by-route basis similarly continues requirement of the current § 43.61. As a result, this conclusion will also not impose any significant additional burden on small carriers.

39. The revisions the Second Report and Order makes to the reporting requirements will reduce overall compliance requirements and burden. Particularly, the elimination of the use of billing codes in the Traffic and Revenue Report, the requirement that filers include only the terminating legs of their reoriginated traffic, the requirement that filers report traditional transit traffic only on a world total basis, the requirement that filers report international data services only on a world-total basis, and the elimination of the current requirements that filers disaggregate their private line service data into six categories based on the speed of the service will simplify and lessen compliance requirements.

E. Steps Taken To Minimize Significant Economic Impact on Small Entities, and Significant Alternatives Considered

40. The RFA requires an agency to describe any significant, specifically small business, alternatives that it has considered in reaching its proposed approach, which may include the following four alternatives (among others): “(1) the establishment of differing compliance or reporting requirements or timetables that take into account the resources available to small entities; (2) the clarification, consolidation, or simplification of compliance and reporting requirements under the rule for small entities; (3) the use of performance, rather than design, standards; and (4) an exemption from coverage or the rule, or any part thereof, for small entities.” ⁵¹

⁵¹ 5 U.S.C. 603(c)(1)-(4).

41. The Second Report and Order considered consolidating the Traffic and Revenue Report and the Circuit Status Report into a single, annual report. We did not, however, adopt this consolidation because the timing of the availability of data makes it impossible for these two reports to be consolidated while providing us with information we need to perform our duties in a timely manner.

42. The establishment of a $5 million revenue threshold below which a filing entity need not file annual traffic and revenue data for international resale services or miscellaneous services will considerably ease the reporting burden on small entities. The Second Report and Order also considered requiring a requirement to correct any errors in the reported data of over one percent in the Traffic and Revenue Report on an ongoing basis. We rejected this requirement, however, retaining the requirement that filers need only file a single correction 90 days after filing the report. This decision will simplify compliance for all filers.

Report to Congress

43. The Commission will send a copy of this Second Report and Order, including this FRFA, in a report to be sent to Congress and the Government Accountability Office pursuant to the Congressional review Act.⁵² In addition, the Commission will send a copy of the Second Report and Order, including a copy of this FRFA, to the Chief Counsel for Advocacy of the SBA. A copy of the Second Report and Order and FRFA (or summaries thereof) will also be published in the Federal Register.⁵³

⁵² See 5 U.S.C. 801(a)(1)(A).

⁵³ See 5 U.S.C. 604(b).

F. Federal Rules That May Duplicate, Overlap, or Conflict With the Proposed Rules

44. None.

Ordering Clauses

45. Accordingly, it is ordered that, pursuant to sections 1, 4(i)-(j), 11, 201-205, 211, 214, 219, 220, 303(r), 309 and 403 of the Communications Act of 1934, as amended, 47 U.S.C. 151, 154(i)-(j), 161, 201-205, 211, 214, 219-220, 303(r), 309 and 403, the policies, rules and requirements discussed in this Second Report and Order are adopted and parts 43 and 63 of the Commission's rules, 47 CFR parts 43 and 63, are amended as set forth in Appendix C. These rule revisions contain modified information collection requirements that require approval by the Office of Management and Budget (OMB) under the PRA. The Federal Communications Commission will publish a document in the Federal Register announcing such approval and the relevant effective date, after the International Bureau has made revisions to the International Bureau Filing System (IBFS) necessary to implement the revised reporting requirements adopted here.

46. It is further ordered that the Commission's Consumer and Governmental Affairs Bureau, Reference Information Center, shall send a copy of this Report and Order, including the Final Regulatory Flexibility Certification, to the Chief Counsel for Advocacy of the Small Business Administration in accordance with section 603(a) of the Regulatory Flexibility Act, 5 U.S.C. 601 et seq.

47. It is further ordered that the Chief, International Bureau, shall issue a Public Notice announcing when the changes adopted in this Second Report and Order take effect, and shall issue a Public Notice releasing the Manual for Filing § 43.62 Annual Reports.

48. It is further ordered that the Chief, International Bureau, shall maintain and revise the Filing Manual and filing schedules as needed, and shall give notice of proposed updates by Public Notice, providing the public opportunity to comment on the proposed updates, and shall inform the public of updates by Public Notice.

49. It is further ordered that this proceeding, IB Docket No. 04-112, is hereby terminated.

List of Subjects in 47 CFR Parts 1, 43 and 63

Administrative practice and procedure, Communications common carriers, Reporting and recordkeeping requirements, Telecommunications, Telephone.

Federal Communications Commission.
Sheryl D. Todd,
Deputy Secretary.

For the reasons discussed in the preamble, the Federal Communications Commission amends 47 CFR parts 1, 43 and 63 as follows:

PART 1—GENERAL RULES OF PRACTICE AND PROCEDURE

1. The authority citation for part 1 is revised to read as follows:

Authority: 15 U.S.C. 79 et seq.; 47 U.S.C. 151, 154(i), 154(j), 155, 157, 225, 227, 303(r), and 309, Cable Landing License Act of 1921, 47 U.S.C. 35-39, and the Middle Class Tax Relief and Job Creation Act of 2012, Pub. L. 112-96.

2. Section 1.767 is amended by revising paragraph (l)(2) to read as follows:

§ 1.767 Cable landing licenses.

(l) * * *

(2) File quarterly, within 90 days from the end of each calendar quarter, a report of its active and idle 64 kbps or equivalent circuits by facility (terrestrial, satellite and submarine cable).

* * * * *

PART 43—REPORTS OF COMMUNICATION COMMON CARRIERS, PROVIDERS OF INTERNATIONAL SERVICES AND CERTAIN AFFILIATES

3. The authority citation for part 43 is revised to read as follows:

Authority: 47 U.S.C. 154; Telecommunications Act of 1996; Pub. L. 104-104, sec. 402(b)(2)(B), (c), 110 Stat. 56 (1996) as amended unless otherwise noted. 47 U.S.C. 211, 219, 220, as amended; Cable Landing License Act of 1921, 47 U.S.C. 35-39.

§ 43.61 [Removed]

4. Remove § 43.61.

5. Add § 43.62 to read as follows:

§ 43.62 Reporting requirements for holders of international Section 214 authorizations and providers of international services.

(a) Circuit Capacity Reports. Not later than March 31 of each year:

(1) Satellite and Terrestrial Circuits. Each facilities-based common carrier shall file a report showing its active common carrier circuits between the United States and any foreign point as of December 31 of the preceding calendar year in any terrestrial or satellite facility for the provision of service to an end user or resale carrier, which includes active circuits used by themselves or their affiliates. Each non-common carrier satellite licensee shall file a report showing its active circuits between the United States and any foreign point as of December 31 of the preceding calendar sold or leased to any customer, including themselves or their affiliates, other than a carrier authorized by the Commission to provide U.S. international common carrier services.

(2) International Submarine Cable Capacity—(i) The licensee(s) of a submarine cable between the United States and any foreign point shall file a report showing the capacity of the submarine cable as of December 31 of the preceding calendar year. The licensee(s) shall also file a report showing the planned capacity of the submarine cable (the intended capacity of the submarine cable two years from December 31 of the preceding calendar year). Only one cable landing licensee shall file the capacity data for each submarine cable. For cables with more than one licensee, the licensees shall determine which licensee will file the reports.

(ii) Each cable landing licensee and common carrier shall file a report showing its capacity on submarine cables between the United States and any foreign point as of December 31 of the preceding calendar year.

(b) Traffic and revenue reports. (1) Not later than July 31 of each year, each person or entity that holds an authorization pursuant to section 214 to provide international telecommunications service shall report whether it provided international telecommunications services during the preceding calendar year.

(2) Not later than July 31 of each year, each common carrier engaged in providing international telecommunications service, and each person or entity engaged in providing Voice over Internet Protocol service connected to the public switched telephone network, between the United States and any foreign point shall file a report with the Commission showing revenues, payouts, and traffic for such international telecommunications service and Voice over Internet Protocol service connected to the public switched telephone network provided during the preceding calendar year.

(3) Entities filing such reports shall submit a revised report by October 31 identifying and correcting any inaccuracies included in the annual report exceeding one percent of the reported figure.

Note to Paragraphs (a) and (b): United States is defined in section 3 of the Communications Act of 1934, as amended, 47 U.S.C. 153.

(c)(1) A Registration Form, containing information about the filer, such as address, phone number, email address, etc., shall be filed with each report filed pursuant to paragraphs (a) and (b).

(2) The Registration Form shall include a certification enabling the filer to check a box to indicate that the filer requests that its circuit capacity data or traffic and revenue data be treated as confidential. If a filer checks that box, the Commission shall treat the data contained in the accompanying report as confidential. Upon receipt of a request for inspection of such information, the Commission shall notify the filer; at that point, the filer must justify continued confidentiality of the information consistent with section 0.459(b) of the Commission's rules.

(d) Filing Manual. Authority is delegated to the Chief, International Bureau to prepare instructions and reporting requirements for the filing of these reports prepared and published as a Filing Manual. The information required under this section shall be furnished in conformance with the instructions and reporting requirements in the Filing Manual.

Note to Paragraph (d): The instructions and reporting requirements prepared by the Chief, International Bureau, shall be consistent with the terms of Reporting Requirements for U.S. Providers of International Telecommunications Services; Amendment of Part 43 of the Commission's Rules, IB Docket No. 04-112, Second Report and Order, FCC 13-6 (rel. January 15, 2013).

§ 43.82 [Removed]

6. Remove § 43.82.

PART 63—EXTENSION OF LINES, NEW LINES AND DISCONTINUANCE, REDUCTION, OUTAGE AND IMPAIRMENT OF SERVICE BY COMMON CARRIERS; AND GRANTS OF RECOGNIZED PRIVATE OPERATING AGENCY STATUS

7. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

8. Section 63.10 is amended by revising paragraphs (c)(2) and (4) to read as follows:

§ 63.10 Regulatory classification of U.S. international carriers.

* * * * *

(c) * * *

(2) File quarterly reports on traffic and revenue within 90 days from the end of each calendar quarter consistent with the format set out by the § 43.62 filing manual.

* * * * *

(4) In the case of an authorized facilities-based carrier, file quarterly, within 90 days from the end of each calendar quarter, a report of its active and idle 64 kbps or equivalent circuits by facility (terrestrial, satellite and submarine cable).

* * * * *

§ 63.18 [Amended]

9. Section 63.18 is amended by removing and reserving paragraph (l).

10. Section 63.21 is amended by revising paragraph (d) to read as follows:

§ 63.21 Conditions applicable to all international Section 214 authorizations.

* * * * *

(d) Carriers must file annual international telecommunications traffic and revenue as required by § 43.62 of this chapter.

* * * * *

11. Section 63.22 is amended by revising paragraph (e) to read as follows:

§ 63.22 Facilities-based international common carriers.

* * * * *

(e) The carrier shall file annual international circuit capacity reports as required by § 43.62 of this chapter.

* * * * *

[FR Doc. 2013-05662 Filed 3-11-13; 8:45 am]

BILLING CODE 6712-01-P